DEPARTMENT OF VETERANS AFFAIRS

[OMB Control No. 2900-0797]

Agency Information Collection (Principles of Excellence Complaint System Intake) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before October 3, 2016.

ADDRESSES: Submit written comments on the collection of information through www.Regulations.gov, or to Office of Information and Regulatory Affairs, Office of Management and Budget, Attn: VA Desk Officer; 725 17th St. NW., Washington, DC 20503 or sent through electronic mail to oira submission@omb.eop.gov. Please refer to “OMB Control No. 2900-0797” in any correspondence.

FOR FURTHER INFORMATION CONTACT: Cynthia Harvey-Pryor, Enterprise Records Service (005R1B), Department of Veterans Affairs, 810 Vermont Avenue NW., Washington, DC 20420, (202) 632-7492 or email Cynthia.Harvey-Pryor@va.gov . Please refer to “OMB Control No. 2900-0797.”

SUPPLEMENTARY INFORMATION:

Title: Principles of Excellence Complaint System.

OMB Control Number: 2900-0797.

Type of Review: Extension of an approved collection.

Abstract: Executive Order 13607, Establishing Principles of Excellence for Educational Institutions Serving Service Members, Veterans, Spouses, and Other Family Members, requires the establishment of a centralized complaint system for students receiving Federal military and veteran educational benefits. The purpose of the complaint system is to provide a standardized method to submit a complaint against an educational institution alleging fraudulent and unduly aggressive recruiting techniques, misrepresentation, payment of incentive compensation, failure to meet state authorization requirements, or failure to adhere to the Principles of Excellence as outlined in the Executive Order.

An agency may not conduct or sponsor, and a person is not required to respond to a collection of information unless it displays a currently valid OMB control number. The Federal Register Notice with a 60-day comment period soliciting comments on this collection of information was published at 81 FR12031 on May 23, 2016.

Affected Public: Individuals or households.

Estimated Annual Burden: 375 hours.

Estimated Average Burden Per Respondent: 15 minutes.

Frequency of Response: On occasion.

Estimated Number of Respondents: 1,500 respondents.

By direction of the Secretary.
Cynthia Harvey-Pryor,
Program Specialist, Office of Privacy & Records Management, Department of Veterans Affairs.

[FR Doc. 2016-21034 Filed 8-31-16; 8:45 am]

BILLING CODE 8320-01-P